DEPARTMENT OF COMMERCE

Census Bureau

Youth Volunteering, Service, and Civic Engagement Survey

ACTION: Proposed collection; comment request.

SUMMARY: The Department of Commerce, as part of its continuing effort to reduce paperwork and respondent burden, invites the general public and other federal agencies to take this opportunity to comment on proposed and/or continuing information collections, as required by the Paperwork Reduction Act of 1995, Public Law 104-13 (44 U.S.C. 3506(c)(2)(A)).

DATES: Written comments must be submitted on or before August 30, 2004.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Ken Kaplan, U.S. Census Bureau, FOB 3, Room 3351, Washington, DC 20233-8400 at (301) 763-3836.

SUPPLEMENTARY INFORMATION

I. Abstract

The purpose of this voluntary survey is to provide data on volunteering and civic engagement among American teenagers, 12 to 18 years of age. This population was last studied in 1995 by Independent Sector, which released a report subsequent to the study.

Since the Corporation for National and Community Service is the Federal agency responsible for providing national and community service opportunities for millions of Americans, conducting a study of a rarely evaluated segment of the volunteering population will be greatly informative of the work that the Corporation is doing across the country. For example, the Learn and Serve America programs are specifically targeted to providing volunteer opportunities and promoting a culture of service in teens. This program focuses on youth and teens as an important community resource and provides young people with opportunities to serve America by connecting community service with academic learning, personal growth, and civic responsibility.

The teen volunteering segment is an important and often overlooked population but youth volunteers often continue their commitment to service as they grow older. The AmeriCorps programs provide service opportunities for Americans 17 and older. By understanding the unique needs and motivations of the teen population, we can better work to engage them currently, and as they age, in service to this country.

For the national sample, we will select a sample of households from expired Current Populations Survey rotations. We will obtain parental consent prior to interviewing the youths.

II. Method of Collection

The information will be collected by telephone-only interviews in one of the Census Bureau's telephone centers. The data methodology will utilize computer-assisted telephone interviewing (CATI).

III. Data

OMB Number: Not available.

Form Number: There will be no form number because it will be conducted by CATI.

Type of Review: New collection.

Affected Public: Individuals or households.

Estimated Number of Respondents: 3,300 respondents.

Estimated Time per Response: 25 minutes per response.

Estimated Total Annual Burden Hours: 1,375 hours.

Estimated Total Annual Cost: There is no cost to respondents other than their time.

Respondent's Obligation: Voluntary.

Legal Authority: Title 13, United States Code, section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for Office of Management and Budget approval of this information collection; they also will become a matter of public record.

Dated: June 24, 2004.
Madeleine Clayton,
Management Analyst, Office of the Chief Information Officer.

[FR Doc. 04-14837 Filed 6-29-04; 8:45 am]

BILLING CODE 3510-07-P